DEPARTMENT OF STATE

[Public Notice PN 10579]

Notice of Department of State Sanctions Actions Pursuant To Section 231(a) of the Countering America's Adversaries Through Sanctions Act of 2017 (CAATSA) and Executive Order 13849 of September 20, 2018, and Notice of Additions To the CAATSA Section 231(d) Guidance

ACTION: Notice.

SUMMARY: The Secretary of State has determined, pursuant to CAATSA Section 231(a), that the Chinese entity Equipment Development Department of the Central Military Commission (EDD), formerly known as the General Armaments Department (GAD), has knowingly, on or after August 2, 2017, engaged in a significant transaction with a person that is part of, or operates for or on behalf of, the defense or intelligence sectors of the Government of the Russian Federation. The Secretary of State has selected certain sanctions to be imposed upon EDD and Li Shangfu, EDD's Director, who has been determined to be a principal executive officer of EDD, or to perform similar functions with similar authorities as such an officer.

The Secretary of State is also updating previously issued guidance pursuant to CAATSA Section 231(d) to specify additional persons that are part of, or operate for or on behalf of, the defense and intelligence sectors of the Government of the Russian Federation.

DATES: The Secretary of State's determination that EDD has knowingly, on or after August 2, 2017, engaged in a significant transaction with a person that is part of, or operates for or on behalf of, the defense or intelligence sectors of the Government of the Russian Federation, and the Secretary of State's selection of certain sanctions to be imposed upon EDD and Li Shangfu, are effective on September 20, 2018. The Secretary of State's updates to previously issued guidance pursuant to CAATSA Section 231(d) to specify additional persons that are part of, or operate for or on behalf of, the defense and intelligence sectors of the Government of the Russian Federation are effective on September 20, 2018.

FOR FURTHER INFORMATION CONTACT: Thomas W. Zarzecki, Director, Task Force 231, Bureau of International Security and Nonproliferation, Department of State, Washington, DC 20520, tel.: 202-647-7594, ZarzeckiTW@state.gov.

SUPPLEMENTARY INFORMATION: Pursuant to Section 231(a) of CAATSA and Executive Order 13849 the Secretary of State has selected the following sanctions to be imposed upon EDD:

• United States Government departments and agencies shall not issue any specific license or grant any other specific permission or authority under any statute that requires the prior review or approval of the United States Government as a condition for the export or re-export of goods or technology to EDD;

• A prohibition on any transactions in foreign exchange that are subject to the jurisdiction of the United States and in which EDD has any interest;

• A prohibition on any transfers of credit or payments between financial institutions, or by, through, or to any financial institution, to the extent that such transfers or payments are subject to the jurisdiction of the United States and involve any interest of EDD;

• All property and interests in property of EDD that are in the United States, that hereafter come within the United States, or that are or hereafter come within the possession or control of any United States person are blocked and may not be transferred, paid, exported, withdrawn, or otherwise dealt in; and

• Imposition on the principal executive officer or officers of EDD, or on persons performing similar functions and with similar authorities as such officer or officers, certain sanctions, as selected by the Secretary of State and described below.

The Secretary of State has selected the following sanctions to be imposed upon Li Shangfu, EDD's Director, who has been determined to be a principal executive officer of EDD, or to perform similar functions with similar authorities as such an officer:

• A prohibition on any transactions in foreign exchange that are subject to the jurisdiction of the United States and in which Li Shangfu has any interest;

• A prohibition on any transfers of credit or payments between financial institutions, or by, through, or to any financial institution, to the extent that such transfers or payments are subject to the jurisdiction of the United States and involve any interest of Li Shangfu;

• All property and interests in property of Li Shangfu that are in the United States, that hereafter come within the United States, or that are or hereafter come within the possession or control of any United States person are blocked and may not be transferred, paid, exported, withdrawn, or otherwise dealt in; and

• The Secretary of State shall deny a visa to Li Shangfu, and the Secretary of Homeland Security shall exclude Li Shangfu from the United States, by treating Li Shangfu as a person covered by section 1 of Proclamation 8693 of July 24, 2011 (Suspension of Entry of Aliens Subject to United Nations Security Council Travel Bans and International Emergency Economic Powers Act Sanctions).

Also, pursuant to the authority in CAATSA Section 231(d), the Secretary of State is issuing updated guidance specifying the following additional persons that are part of, or operate for or on behalf of, the defense and intelligence sectors of the Government of the Russian Federation:

Section 231(d) List Regarding the Defense Sector of the Government of the Russian Federation

• Komsomolsk-na-Amur Aviation Production Organization (KNAAPO)

• Oboronlogistika, OOO

• PMC Wagner

Section 231(d) List Regarding the Russian Intelligence Sector of the Government of the Russian Federation

• Antonov, Boris Alekseyevich

• Aslanov, Dzheykhun Nasimi Ogly

• Badin, Dmitriy Sergeyevich

• Bogacheva, Anna Vladislavovna

• Bovda, Maria Anatolyevna

• Bovda, Robert Sergeyevich

• Burchik, Mikhail Leonidovich

• Bystrov, Mikhail Ivanovich

• Concord Catering

• Concord Management and Consulting LLC

• Gizunov, Sergey Aleksandrovich

• Internet Research Agency LLC

• Kaverzina, Irina Viktorovna

• Korobov, Igor Valentinovich

• Kovalev, Anatoliy Sergeyevich

• Kozachek, Nikolay Yuryevich

• Krylova, Aleksandra Yuryevna

• Lukashev, Aleksey Viktorovich

• Malyshev, Artem Andreyevich

• Morgachev, Sergey Aleksandrovich

• Netyksho, Viktor Borisovich

• Osadchuk, Aleksandr Vladimirovich

• Podkopaev, Vadim Vladimirovich

• Polozov, Sergey Pavlovich

• Potemkin, Aleksey Aleksandrovich

• Prigozhin, Yevgeniy Viktorovich

• Vasilchenko, Gleb Igorevich

• Venkov, Vladimir

• Yermakov, Ivan Sergeyevich

• Yershov, Pavel Vyacheslavovich

Christopher A. Ford,
Assistant Secretary of State.

[FR Doc. 2018-21684 Filed 10-4-18; 8:45 am]

BILLING CODE 4710-27-P